COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes from the Procurement List products and services previously furnished by nonprofit agencies employing persons who are blind or have other severe disabilities.

DATES: Effective Date: February 24, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Deletions

On October 26, November 16 and November 30, 2007, the Committee for Purchase From People Who Are Blind or Severely Disabled published notice (72 FR 60797; 64576; 67698) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action should not result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Marker, Tube Type, Transparency

NSN: 7520-00-138-7981

NPA: Winston-Salem Industries for the Blind, Winston-Salem, NC

Contracting Activity: General Services Administration, Office Supplies & Paper Products Acquisition Ctr, New York, NY

Ballpoint Pen, Stick Type

NSN: 7520-01-058-9975

Pen, Non-retractable, Gel Ink, “Alpha Elite”

NSN: 7520-01-500-5216—Purple

Pen, Gel

NSN: 7520-01-484-5257—Purple, Medium

Pen, Cushion Grip, Transparent (Alpha Grip)

NSN: 7520-01-446-4851—Purple Ink, Fine Point

NSN: 7520-01-446-4852—Purple Inc, Medium Point

NPA: Alphapointe Association for the Blind, Kansas City, MO

Contracting Activity: General Services Administration, Office Supplies & Paper Products Acquisition Ctr, New York, NY

Enamel

NSN: 8010-01-336-5062

NSN: 8010-01-348-3060

NPA: Lighthouse for the Blind, St. Louis, MO

Contracting Activity: General Services Administration, Heartland Global Supply, Kansas City, MO

Towel, Machinery Wiping

NSN: 7920-01-448-7003

NPA: East Texas Lighthouse for the Blind, Tyler, TX

Contracting Activity: General Services Administration, Southwest Supply Center, Fort Worth, TX

Services

Service Type/Location: Food Service Attendant, U.S. Coast Guard, 259 High Street, South Portland, ME.

NPA: Northern New England Employment Services, Portland, ME

Contracting Activity: U.S. Coast Guard, Department of Homeland Security, Norfolk, VA.

Service Type/Location: Machining Parts, Naval Supply Center, Charleston, SC.

NPA: Unknown.

Contracting Activity: Department of the Navy, Charleston, SC.

Kimberly M. Zeich,
Director, Program Operations.

[FR Doc. E8-1337 Filed 1-24-08; 8:45 am]

BILLING CODE 6353-01-P